DEPARTMENT OF HOUSING AND URBAN DEVELOPMENT

[Docket No. FR-5733-N-01]

Fair Housing Initiatives Program—Fiscal Year 2013 Application and Award Policies and Procedures—Solicitation of Comment

AGENCY: Office of the Assistant Secretary for Fair Housing and Equal Opportunity, HUD.

ACTION: Notice.

SUMMARY: This notice invites interested parties to comment on HUD's administration of the funding competition for the Fair Housing Initiatives Program during Fiscal Year (FY) 2013.

DATES: Comment Due Date: October 9, 2013.

ADDRESSES: Interested persons are invited to submit comments regarding this rule to the Regulations Division, Office of General Counsel, Department of Housing and Urban Development, 451 7th Street SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an appointment to review the public comments must be scheduled in advance by calling the Regulations Division at 202-708-3055 (this is not a toll-free number). Individuals with speech or hearing impairments may access this number via TTY by calling the Federal Relay Service at 800-877-8339. Copies of all comments submitted are available for inspection and downloading at www.regulations.gov.

FOR FURTHER INFORMATION CONTACT: Myron Newry or Paula Stone of the Office of Fair Housing and Equal Opportunity's FHIP Division at 202-402-7095 and 202-402-7054, respectively (these are not toll-free numbers). Persons with hearing or speech impairments may access these numbers via TTY by calling the Federal Relay Service at 800-877-8339 (this is a toll free number).

SUPPLEMENTARY INFORMATION: In anticipation of the next round of funding and grant administration under the Fair Housing Initiatives Program (FHIP), HUD invites comments from potential applicants, prior grantees and applicants, and any other interested parties, on HUD's FY 2013 FHIP competition and HUD's administration of grants during FY 2013. HUD's FY 2013 FHIP NOFA can be found at http://portal.hud.gov/hudportal/HUD?src=/program_offices/administration/grants/fundsavail/nofa13/fhip. HUD is especially interested in soliciting comments on the Applications and Awards Procedures and Policies (AAPP) Guide, which can be found at: http://portal.hud.gov/hudportal/documents/huddoc?id=FY13HUD-FHIPAAPPGuide.pdf.

HUD will consider the comments received in response to this notice when formulating plans for the administration of FHIP grants and disposition of funds appropriated for Fiscal Year 2014.

Dated: August 27, 2013.
David R. Ziaya,
Deputy Assistant Secretary for Operations and Management.

[FR Doc. 2013-21857 Filed 9-6-13; 8:45 am]

BILLING CODE 4210-67-P